DEPARTMENT OF DEFENSE

Office of the Secretary

[Docket ID: DOD-2011-OS-0105]

Privacy Act of 1974; System of Records

AGENCY: Office of the Secretary of Defense, Department of Defense (DoD).

ACTION: Notice to Alter a System of Records.

SUMMARY: The Office of the Secretary of Defense proposes to alter a system of records in its inventory of record systems subject to the Privacy Act of 1974 (5 U.S.C. 552a), as amended.

DATES: This proposed action would be effective without further notice on October 31, 2011, unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, 2nd floor, East Tower, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Services, 1155 Defense Pentagon, Washington, DC 20301-1155, or by phone at (703) 588-6830.

SUPPLEMENTARY INFORMATION: The Office of the Secretary of Defense notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on September 26, 2011, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: September 26, 2011.
Aaron Siegel,
Alternate OSD Federal Register Liaison Officer, Department of Defense.

V5-01

System Name:

Investigative Records Repository (April 30, 2009, 74 FR 19944).

Changes:

Delete entry and replace with “DMDC 11 DoD.”

* * * * *

System location:

Delete entry and replace with “Defense Manpower Data Center (DMDC), 1137 Branchton Road, Boyers, PA 16020-0168.”

Categories of individuals covered by the system:

Delete entry and replace with “Military personnel who are active duty; applicants for enlistment or appointment; members of Reserve units; National guardsmen; DoD civilian personnel who are paid from appropriated funds; industrial or contractor personnel who are working in private industry in firms which have contracts involving access to classified DoD information or installations; Red Cross personnel and personnel paid from non-appropriated funds who have DoD affiliation; Reserve Officers' Training Corps (ROTC) cadets; former military personnel; and individuals residing on, have authorized official access to, or conducting or operating any business or other functions at any DoD installation or facility and had an investigation initiated by the Defense Security Service before 3 February 2006.”

Categories of records in the system:

Delete entry and replace with “Name; Social Security Number (SSN); date of birth; gender; aliases; official reports of investigation (ROIs) prepared by DoD, Federal, state, or local official investigative activities; industrial security administrative inquiries (AISs).

Attachments to ROIs or AISs including exhibits, subject or interviewee statements, police records, polygraph technical reports, medical records, credit bureau reports, employment records, education records, release statements, summaries of, or extracts from other similar records or reports.

Case control and management documents which are not reports of investigation, but which serve as the basis for investigation, or which serve to guide and facilitate investigative activity, including documents providing the data to open and conduct the case; and documents initiated by the subject.

Defense Manpower Data Center file administration and management documents accounting for the disclosure of, control of, and access to a file.”

Authority for maintenance of the system:

Delete entry and replace with “10 U.S.C. 615, Armed Forces, Information furnished to selection boards; E.O. 10450, Security Requirements for Government Employment; DoD Directive 5200.2, Department of Defense Personnel Security Program; DoD Directive 5200.27 (Section IV A and B), Acquisition of Information Concerning Persons and Organizations Not Affiliated with the Department of Defense; DoD Directive 5220.6, Defense Industrial Personnel Security Clearance Review Program; DoD Instruction 5220.28, Application of Special Eligibility and Clearance Requirements in the SIOP-ESI Program for Contractor Employees; DoD Instruction 5210.91, Polygraph and Credibility Assessment (PCA) Procedures; and E.O. 9397 (SSN), as amended.”

Purpose(s):

Delete entry and replace with “To ensure that the acceptance or retention of persons in sensitive DoD positions or granting individuals, including those employed in defense industry, access to classified information is clearly consistent with national security.

To determine the loyalty, suitability, eligibility, and general trustworthiness of individuals for access to defense information and facilities.

To determine the eligibility and suitability of individuals for entry into and retention in the Armed Forces.

For use in criminal law enforcement investigations, including statutory violations and counterintelligence as well as counterespionage and other security matters.

For use in military boards selecting military members for promotion to grades above 0-6.”

* * * * *

Storage:

Delete entry and replace with “Paper file folders, microfiche, and electronic storage media.”

* * * * *

Retention and disposal:

Delete entry and replace with “Retention of closed investigative files is authorized for 15 years, except as follows:

(1) Files which have resulted in final adverse action against an individual will be retained 25 years;

(2) Polygraph technical reports and physiological test data are disposition pending. Until the National Archives and Records Administration approves a retention and disposal schedule, records will be treated as permanent.”

System manager(s) and address:

Delete entry and replace with “Deputy Director for Identity and Personnel Assurance, Defense Manpower Data Center, 1600 Wilson Boulevard, Suite 400, Arlington VA 22209-2593.”

Notification procedures:

Delete entry and replace with “Individuals seeking to determine whether information about themselves is contained in this system should send written inquiries to: DMDC Boyers, Privacy Act Office, P.O. Box 168, Boyers, PA 16020-0168.

Written requests must contain the full name and SSN of the subject individual, along with a return address.

In addition, the requester must provide a notarized statement or an unsworn declaration made in accordance with 28 U.S.C. 1746, in the following format:

If executed without the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).'

Attorneys or other persons acting on behalf of an individual must provide written authorization from that individual for their representative to act on their behalf.”

Record access procedures:

Delete entry and replace with “Individuals seeking access to information about themselves contained in this system must send written signed inquiries to DMDC Boyers, Privacy Act Office, P.O. Box 168, Boyers, PA 16020-0168.

Written requests must contain the full name and SSN and address where the records are to be returned.

In addition, the requester must provide a notarized statement or an unsworn declaration made in accordance with 28 U.S.C. 1746, in the following format:

If executed without the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).'

Attorneys or other persons acting on behalf of an individual must provide written authorization from that individual for their representative to act on their behalf.”

Contesting record procedures:

Delete entry and replace with “The Office of the Secretary of Defense/Joint Staff rules for accessing records, contesting contents, and appealing initial agency determinations are contained in Office of the Secretary of Defense Administrative Instruction 81; 32 CFR part 311; or may be obtained from the system manager.”

* * * * *

Exemptions claimed for the system:

Delete entry and replace with “Investigatory material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

Investigatory material compiled solely for the purpose of determining suitability, eligibility, or qualifications for Federal civilian employment, military service, Federal contracts, or access to classified information may be exempt pursuant to 5 U.S.C. 552a(k)(5), but only to the extent that such material would reveal the identity of a confidential source.

An exemption rule for this record system has been promulgated in accordance with the requirements of 5 U.S.C. 553(b)(1), (2), and (3), (c) and (e) and published in 32 CFR part 311. For additional information contact the system manager.”

DMDC 11 DoD

System name:

Investigative Records Repository.

System location:

Defense Manpower Data Center (DMDC), 1137 Branchton Road, Boyers, PA 16020-0168.

Categories of individuals covered by the system:

Military personnel who are active duty; applicants for enlistment or appointment; members of Reserve units; National guardsmen; DoD civilian personnel who are paid from appropriated funds; industrial or contractor personnel who are working in private industry in firms which have contracts involving access to classified DoD information or installations; Red Cross personnel and personnel paid from non-appropriated funds who have DoD affiliation; Reserve Officers' Training Corps (ROTC) cadets; former military personnel; and individuals residing on, have authorized official access to, or conducting or operating any business or other functions at any DoD installation or facility and had an investigation initiated by the Defense Security Service before 3 February 2006.

Categories of records in the system:

Name; Social Security Number (SSN); date of birth; gender; aliases; official reports of investigation (ROIs) prepared by DoD, Federal, state, or local official investigative activities; industrial security administrative inquiries (AISs).

Attachments to ROIs or AISs including exhibits, subject or interviewee statements, police records, polygraph technical reports, medical records, credit bureau reports, employment records, education records, release statements, summaries of, or extracts from other similar records or reports.

Case control and management documents which are not reports of investigation, but which serve as the basis for investigation, or which serve to guide and facilitate investigative activity, including documents providing the data to open and conduct the case; and documents initiated by the subject.

Defense Manpower Data Center file administration and management documents accounting for the disclosure of, control of, and access to a file.

Authority for maintenance of the system:

10 U.S.C. 615, Armed Forces, Information furnished to selection boards; E.O. 10450, Security Requirements for Government Employment; DoD Directive 5200.2, Department of Defense Personnel Security Program; DoD Directive 5200.27 (Section IV A and B), Acquisition of Information Concerning Persons and Organizations not Affiliated with the Department of Defense; DoD Directive 5220.6, Defense Industrial Personnel Security Clearance Review Program; DoD Instruction 5220.28, Application of Special Eligibility and Clearance Requirements in the SIOP-ESI Program for Contractor Employees; DoD Instruction 5210.91, Polygraph and Credibility Assessment (PCA) Procedures; and E.O. 9397 (SSN), as amended.

Purpose(s):

To ensure that the acceptance or retention of persons in sensitive DoD positions or granting individuals, including those employed in defense industry, access to classified information is clearly consistent with national security.

To determine the loyalty, suitability, eligibility, and general trustworthiness of individuals for access to defense information and facilities.

To determine the eligibility and suitability of individuals for entry into and retention in the Armed Forces.

For use in criminal law enforcement investigations, including statutory violations and counterintelligence as well as counterespionage and other security matters.

For use in military boards selecting military members for promotion to grades above 0-6.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

For maintenance and use by the requesting activity when collected during reciprocal investigations conducted for other DoD and Federal investigative elements.

For dissemination to Federal agencies or other DoD components when information regarding personnel security matters is reported by Information Summary Report.

The DoD ‘Blanket Routine Uses’ published at the beginning of the Office of the Secretary of Defense compilation of systems of records notices apply to this system.

Policies and practices for storing, retrieving, accessing, retaining, and disposing of records in the system:

Storage:

Paper file folders, microfiche, and electronic storage media.

Retrievability:

Information is retrieved by SSN.

Safeguards:

Completed investigative records are stored in secured areas accessible only to authorized DMDC personnel who have a need-to-know. Paper records and microfiche are maintained in safes and locked rooms and electronic records are protected from access by ‘fail-safe’ system software. The entire building housing these records is protected by guards 24-hours a day, and all visitors must register through the site security office.

Retention and disposal:

Retention of closed investigative files is authorized for 15 years, except as follows:

(1) Files which have resulted in final adverse action against an individual will be retained 25 years;

(2) Polygraph technical reports and physiological test data are disposition pending. Until the National Archives and Records Administration approves a retention and disposal schedule, records will be treated as permanent.

System manager(s) and address:

Deputy Director for Identity and Personnel Assurance, Defense Manpower Data Center, 1600 Wilson Boulevard, Suite 400, Arlington, VA 22209-2593.

Notification procedures:

Individuals seeking to determine whether information about themselves is contained in this system should send written inquiries to: DMDC Boyers, Privacy Act Office, P.O. Box 168, Boyers, PA 16020-0168.

Written requests must contain the full name and SSN of the subject individual, along with a return address.

In addition, the requester must provide a notarized statement or an unsworn declaration made in accordance with 28 U.S.C. 1746, in the following format:

If executed without the United States: ‘I declare (or certify, verify, or state) under penalty of perjury under the laws of the United States of America that the foregoing is true and correct. Executed on (date). (Signature).’

If executed within the United States, its territories, possessions, or commonwealths: ‘I declare (or certify, verify, or state) under penalty of perjury that the foregoing is true and correct. Executed on (date). (Signature).’

Attorneys or other persons acting on behalf of an individual must provide written authorization from that individual for their representative to act on their behalf.

Record access procedures:

Individuals seeking access to information about themselves contained in this system must send written signed inquiries to DMDC Boyers, Privacy Act Office, P.O. Box 168, Boyers, PA 16020-0168.

Written requests must contain the full name and SSN and address where the records are to be returned.

In addition, the requester must provide a notarized statement or an unsworn declaration made in accordance with 28 U.S.C. 1746, in the following format:

If executed without the United States: ‘I declare (or certify, verify, or state) under penalty of perjury under the laws of the United States of America that the foregoing is true and correct. Executed on (date). (Signature).’

If executed within the United States, its territories, possessions, or commonwealths: ‘I declare (or certify, verify, or state) under penalty of perjury that the foregoing is true and correct. Executed on (date). (Signature).’

Attorneys or other persons acting on behalf of an individual must provide written authorization from that individual for their representative to act on their behalf.

Contesting record procedures:

The Office of the Secretary of Defense/Joint Staff rules for accessing records, contesting contents, and appealing initial agency determinations are contained in Office of the Secretary of Defense Administrative Instruction 81; 32 CFR part 311; or may be obtained from the system manager.

Record source categories:

Subjects of investigations; records of other DoD activities and components; Federal, state, county, and municipal records; employment records of private business and industrial firms; educational and disciplinary records of schools, colleges, universities, technical and trade schools; hospital, clinic, and other medical records.

Records of commercial enterprises such as real estate agencies, credit bureaus, loan companies, credit unions, banks, and other financial institutions which maintain credit information on individuals.

The interview of individuals who are thought to have knowledge of the subject's background and activities.

The interview of witnesses, victims, and confidential sources.

The interview of any individuals deemed necessary to complete the investigation.

Directories, rosters, and correspondence.

Any other type of record deemed necessary to complete the investigation.

Exemptions claimed for the system:

Investigatory material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

Investigatory material compiled solely for the purpose of determining suitability, eligibility, or qualifications for Federal civilian employment, military service, Federal contracts, or access to classified information may be exempt pursuant to 5 U.S.C. 552a(k)(5), but only to the extent that such material would reveal the identity of a confidential source.

An exemption rule for this record system has been promulgated in accordance with the requirements of 5 U.S.C. 553(b) (1), (2), and (3), (c) and (e) and published in 32 CFR part 311. For additional information contact the system manager.

[FR Doc. 2011-25175 Filed 9-29-11; 8:45 am]

BILLING CODE 5001-06-P